DEPARTMENT OF THE INTERIOR

National Park Service

[NPS-WASO-NAGPRA-NPS0026732; PPWOCRADN0-PCU00RP14.R50000]

Notice of Inventory Completion: Riverside Metropolitan Museum, Riverside, CA

AGENCY: National Park Service, Interior.

ACTION: Notice.

SUMMARY: The Riverside Metropolitan Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Riverside Metropolitan Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Riverside Metropolitan Museum at the address in this notice by December 14, 2018.

ADDRESSES: Robyn G. Peterson, Ph.D., Museum Director, Riverside Metropolitan Museum, 3580 Mission Inn Avenue, Riverside, CA 92501, telephone 951-826-5792, email rpeterson@riversideca.gov.

SUPPLEMENTARY INFORMATION: Notice is here given in accordance with the Native American Graves Protection and Repatriation Act (NAGPRA), 25 U.S.C. 3003, of the completion of an inventory of human remains under the control of the Riverside Metropolitan Museum, Riverside, CA. The human remains were removed from an unknown location, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Riverside Metropolitan Museum professional staff in consultation with representatives of Inupiat Community of the Arctic Slope.

History and Description of the Remains

At an unknown date, human remains representing, at minimum, one individual were removed from an unknown location in Alaska and entered the possession of a Captain Hammond. Captain Hammond is known to have sailed between San Francisco, CA, and Alaska in the late 19th and early 20th centuries. During this period, he acquired a collection of Inupiat objects. Upon Captain Hammond's death, the human remains and other Inupiat ethnographic materials were acquired by a collector, who donated them in 1982 to the Riverside Metropolitan Museum. No known individuals were identified. No associated funerary objects are present.

Historical records suggest Captain Hammond worked for Alaskan salmon fishing companies and his travels along the coast provided him with opportunities to interact with Alaskan coastal Inupiat peoples. This geographic evidence, and the association of these human remains within the Hammond Collection of Inupiat materials, suggests that these human remains are Inupiat. According to oral history, archaeological evidence, and ethnographic records, the Inupiat Community of the Arctic Slope are directly descended from the earlier Inupiat peoples who lived in this region.

Determinations Made by the Riverside Metropolitan Museum

Officials of the Riverside Metropolitan Museum have determined that:

• Pursuant to 25 U.S.C. 3001(9), the human remains described in this notice represent the physical remains of one individual of Native American ancestry.

• Pursuant to 25 U.S.C. 3001(2), there is a relationship of shared group identity that can be reasonably traced between the Native American human remains and the Inupiat Community of the Arctic Slope.

Additional Requestors and Disposition

Lineal descendants or representatives of any Indian Tribe or Native Hawaiian organization not identified in this notice that wish to request transfer of control of these human remains should submit a written request with information in support of the request to Robyn G. Peterson, Ph. D., Museum Director, Riverside Metropolitan Museum, 3580 Mission Inn Avenue, Riverside, CA 92501, telephone 951-826-5792, email rpeterson@riversideca.gov, by December 14, 2018. After that date, if no additional requestors have come forward, transfer of control of the human remains to the Inupiat Community of the Arctic Slope may proceed.

The Riverside Metropolitan Museum is responsible for notifying the Inupiat Community for the Arctic Slope that this notice has been published.

Dated: October 9, 2018.
Melanie O'Brien,
Manager, National NAGPRA Program.

[FR Doc. 2018-24764 Filed 11-13-18; 8:45 am]

BILLING CODE 4312-52-P